DEPARTMENT OF STATE

[Public Notice: 7039]

Notice of Receipt of Application for a New Presidential Permit

Title: Notice of Receipt of Application for a new Presidential Permit to reflect a Transfer of Ownership from Fraser Papers Inc. to Twin Rivers Paper Company Inc. of nine pipelines and a supporting truss bridge connecting pulp/paper plants in Madawaska, Maine and Edmundston, New Brunswick, Canada.

SUMMARY: The Department of State hereby gives notice that, on March 29, 2010, it received an application for a Presidential Permit for nine cross-border pipelines and a supporting truss bridge to reflect a change of ownership of these facilities from Fraser Paper Inc. to Twin Rivers Paper Company Inc. as the result of the sale of Fraser Papers assets to Twin Rivers' majority stockholder, Brookfield Asset Management, Inc. According to the application, both Twin Rivers Paper Company Inc. and Brookfield Asset Management, Inc. are organized under the Business Corporations Act (Ontario) and Brookfield Asset Management, Inc. is publicly traded on the New York and Toronto stock exchanges.

Seven pipelines, some dating from 1925, carry sulfite and groundwood pulp from Edmundston to Madawaska and return paper machine decker water from Madawaska to Edmundston. Two pipelines, installed in 1982, carry steam from Edmundston to Madawaska and return condensate back to Edmundston. According to information provided by the applicant, the truss bridge supporting the two 1982 pipelines was constructed at the same time as those pipelines; while the bridge has a walkway to allow for maintenance, it is neither a pedestrian nor a vehicle crossing. The change in ownership will not involve any new construction, any change in the existing international connections, or any changes in the operation of the pipelines or the bridge, and therefore will create no new environmental impacts. The Department of State's jurisdiction over this application is based upon Executive Order 11423 of August 16, 1968, as amended. As provided in E.O. 11423, the Department is circulating this application to relevant Federal and State agencies for review and comment. Under E.O. 11423, the Department has the responsibility to determine, taking into account input from these agencies and other stakeholders, whether this proposed transfer of ownership of these cross-border facilities is in the U.S. national interest.

DATES: Interested members of the public are invited to submit written comments regarding this application on or before July 12, 2010 to Mr. David Rovinsky, Economic/Trade Officer, via e-mail at RovinskyDJ@state.gov, or by mail at WHA/CAN—room 3917, Department of State, 2201 C Street, NW., Washington, DC 20520.

FOR FURTHER INFORMATION CONTACT: Mr. David Rovinsky, Economic/Trade Officer, via e-mail at RovinskyDJ@state.gov or by mail at WHA/CAN—room 3917, Department of State, 2201 C Street, NW., Washington, DC 20520. General information about Presidential Permits is available on the Internet at http://www.state.gov/p/wha/rt/permit.

SUPPLEMENTARY INFORMATION: This application is available for review in the Office of Canadian Affairs, Department of State, during normal business hours.

Dated: June 3, 2010.
Gary Sheaffer,
Deputy Director, Office of Canadian Affairs, Department of State.

[FR Doc. 2010-13700 Filed 6-7-10; 8:45 am]

BILLING CODE 4710-29-P